DEPARTMENT OF THE INTERIOR

Fish and Wildlife Service

[FWS-R4-ES-2013-N032; FXES11120400000-134-FF04EF2000]

Endangered and Threatened Wildlife and Plants; Receipt of an Application for an Incidental Take Permit; Availability of Proposed Low-Effect Habitat Conservation Plan; Martin County, FL

AGENCY: Fish and Wildlife Service, Interior.

ACTION: Notice of availability; request for comment/information.

SUMMARY: We, the Fish and Wildlife Service (Service), announce the availability of an incidental take permit (ITP) application and a Habitat Conservation Plan (HCP). SP Behavioral, LLC (the applicant) requests an ITP under the Endangered Species Act of 1973, as amended (Act). The applicant anticipates taking about 2.99 acres of foraging, breeding, and sheltering habitat used by the Florida scrub-jay (Aphelocoma coerulescens) (scrub-jay), Eastern indigo snake (Drymarchon courais cooperii) (indigo snake), and gopher tortoise (Gopherus polyphemus), incidental to land preparation and for the construction of the Sandy Pines Residential Treatment Center Addition in Martin County, Florida. The applicant's HCP describes the minimization and mitigation measures proposed to address the effects of the project on the covered species.

DATES: We must receive your written comments on the ITP application and HCP on or before March 15, 2013.

ADDRESSES: See the SUPPLEMENTARY INFORMATION section below for information on how to submit your comments on the ITP application and HCP. You may obtain a copy of the ITP application and HCP by writing the South Florida Ecological Services Office, Attn: Permit number TE95653A-0, U.S. Fish and Wildlife Service, 1339 20th Street, Vero Beach, FL 32960-3559. In addition, we will make the ITP application and HCP available for public inspection by appointment during normal business hours at the above address.

FOR FURTHER INFORMATION CONTACT: Ms. Elizabeth Landrum, Fish and Wildlife Biologist, South Florida Ecological Services Office (see ADDRESSES); telephone: 772-469-4304.

SUPPLEMENTARY INFORMATION:

Submitting Comments

If you wish to comment on the ITP application and HCP, you may submit comments by any one of the following methods:

Email: Elizabeth_Landrum@fws.gov. Use Attn: Permit number “TE95653A-0” as your message subject line.

Fax: Elizabeth Landrum, 772-562-4288, Attn.: Permit number “TE95653A-0.”

U.S. mail: Elizabeth Landrum, South Florida Ecological Services Field Office, Attn: Permit number “TE95653A-0,” U.S. Fish and Wildlife Service, 1339 20th Street, Vero Beach, FL 32960-3559.

In-person drop-off: You may drop off comments or request information during regular business hours at the above office address.

Public Availability of Comments

Before including your address, phone number, email address, or other personal identifying information in your comments, you should be aware that your entire comment—including your personal identifying information—may be made publicly available at any time. While you can request in your comments that your personal identifying information be withheld from public review, we cannot guarantee that we will be able to do so.

Applicant's Proposed Project

We received an application from the applicant for an incidental take permit, along with a proposed habitat conservation plan. The applicant requests a 15-year permit under section 10(a)(1)(B) of the Act (16 U.S.C. 1531 et seq.). If we approve the permit, the applicant anticipates taking a total of approximately 2.99 acres of scrub-jay, indigo snake, and gopher tortoise breeding, feeding, and sheltering habitat, incidental to land preparation and construction of additional residential and educational facilities, installation of associated infrastructure, construction of courtyards for recreation, expansion of the parking area and storm water management facility, and construction of a stabilized service road, in Martin County, Florida. Construction activities associated with the project will take place within Section 24, Township 40S, Range 42E, Martin County, Florida.

The applicant proposes to mitigate for impacts by one of the three following methods: (1) Establish and manage in perpetuity a 6-acre on-site conservation area; (2) establish and manage in perpetuity a 4.54-acre on-site conservation area and contribute $53,375 to the Florida Scrub-jay Conservation Program Fund; or (3) contribute $219,348 to the Florida Scrub-jay Conservation Program Fund. The Service listed the scrub-jay as threatened in 1987 (June 3, 1987; 52 FR 20715), effective July 6, 1987. The Service listed the indigo snake as threatened in 1978 (January 31, 1978; 43 FR 4028), effective March 3, 1978. The Service identified the gopher tortoise as a candidate species in the eastern portion of its range in 2011 (July 27, 2011; 76 FR 45130) and determined that listing this species as threatened was warranted but precluded by higher priority listing actions.

Our Preliminary Determination

The Service has made a preliminary determination that the applicant's project, including the mitigation measures, will individually and cumulatively have a minor or negligible effect on the species covered in the HCP. Therefore, issuance of the ITP is a “low-effect” project and qualifies as a categorical exclusion under the National Environmental Policy Act (NEPA), as provided by the Department of the Interior Manual (516 DM 2 Appendix 1 and 516 DM 6 Appendix 1). We base our preliminary determination that issuance of the ITP qualifies as a low-effect action on the following three criteria: (1) Implementation of the project would result in minor or negligible effects on federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. This preliminary determination may be revised based on our review of public comments that we receive in response to this notice.

Next Steps

The Service will evaluate the HCP and comments submitted thereon to determine whether the application meets the requirements of section 10(a) of the Act. The Service will also evaluate whether issuance of the section 10(a)(1)(B) ITP complies with section 7 of the Act by conducting an intra-Service section 7 consultation. The results of this consultation, in combination with the above findings, will be used in the final analysis to determine whether or not to issue the ITP. If it is determined that the requirements of the Act are met, the ITP will be issued.

Authority:

We provide this notice under Section 10 of the Endangered Species Act (16 U.S.C. 1531 et seq.) and NEPA regulations (40 CFR 1506.6).

Dated: February 6, 2013.
Larry Williams,
Field Supervisor, South Florida Ecological Services Office.

[FR Doc. 2013-03287 Filed 2-12-13; 8:45 am]

BILLING CODE 4310-55-P